DEPARTMENT OF DEFENSE

Office of the Secretary

Executive Committee Meeting of the Defense Advisory Committee on Women in the Services (DACOWITS)

AGENCY: Advisory Committee on Women in the Services, Department of Defense.

ACTION: Notice.

SUMMARY: Pursuant to Section 10(a), Public Law 92-463, as amended, notice is hereby given of a forthcoming Quarterly Executive Committee Meeting of the Defense Advisory Committee on Women in the Services (DACOWITS). The purpose of the Executive Committee Meeting is to review the responses to the recommendations and request for information adopted by the committee at the DACOWITS 2000 Fall Conference.

DATES: February 7, 2000, 9:15 a.m.-4 p.m.

ADDRESSES: SECDEF Conference Room 3E869, The Pentagon, Washington, DC.

FOR FURTHER INFORMATION CONTACT: Major Susan E. Kolb, ARNGUS, DACOWITS and Military Women Matters, OASD (Force Management Policy), 4000 Defense Pentagon, Room 3D769, Washington, DC 20301-4000; telephone (703) 697-2122.

SUPPLEMENTARY INFORMATION: Meeting agenda:

Monday February 7, 2000

Time and Event

9:15-9:29 a.m.—Introductions (3E869—SecDef Conf Rm) (Open to Public)

9:30-10:29 a.m.—Pay and Compensation Briefing (Open to Public)

10:30-11:29 a.m.—TRICARE Follow up Briefing (QOL, RFI #1) (Open to Public)

11:30-2:14 p.m.—Lunch for Executive Committee Members, Military Staff (By invitation only)

2:15-2:59 p.m.—Child Care Briefing (QOL RFI #2) (Open to Public)

3:00-3:29 p.m.—Future Issues (Open to Public)

3:30-3:59 p.m.—Review 2000 Mission, Vision and Goals Review Upcoming DACOWITS events Wrap up (Open to Public)

4 p.m.—DACOWITS members depart

Dated: January 13, 2000.
Patricia L. Toppings,
Alternate OSD Federal Register Liaison Officer, Department of Defense.

[FR Doc. 00-1309 Filed 1-19-00; 8:45 a.m.]

BILLING CODE 5001-10-M